DEPARTMENT OF HEALTH AND HUMAN SERVICES

Substance Abuse and Mental Health Services Administration

Fiscal Year (FY) 2001 Funding Opportunities

AGENCY: Substance Abuse and Mental Health Services Administration, HHS.

ACTION: Notice of funding availability.

SUMMARY: The Substance Abuse and Mental Health Services Administration (SAMHSA) Center for Substance Abuse Treatment (CSAT) announces the availability of FY 2001 funds for grants for the following activity. This notice is not a complete description of the activity; potential applicants must obtain a copy of the Guidance for Applicants (GFA), including Part I, Targeted Capacity Expansion Program for Substance Abuse Treatment and HIV/AIDS Services, and Part II, General Policies and Procedures Applicable to all SAMHSA Applications for Discretionary Grants and Cooperative Agreements, before preparing and submitting an application.

Activity | Application deadline | Estimated funds FY 2001 | Estimated number of awards | Project period
Targeted Capacity Expansion for Substance Abuse Treatment and HIV/AIDS Services | May 4, 2001 | $11 million | 25-35 | 5 years.

The actual amount available for the award may vary, depending on unanticipated program requirements and the number and quality of applications received. FY 2001 funds for the activity discussed in this announcement were appropriated by the Congress under Public Law No. 106-310. SAMHSA's polices and procedures for peer review and Advisory Council review of grant and cooperative agreement applications were published in the Federal Register (Vol. 58, No. 126) on July 2, 1993.

GENERAL INSTRUCTIONS: Applicants must use application form PHS 5161-1 (Rev. 7/00). The application kit contains the two-part application materials (complete programmatic guidance and instructions for preparing and submitting applications), the PHS 5161-1 which includes Standard Form 424 (Face Page), and other documentation and forms. Application kits may be obtained from: National Clearinghouse for Alcohol and Drug Information (NCADI), P.O. Box 2345, Rockville, MD 20847-2345, Telephone: 1-800-729-6686.

The PHS 5161-1 application form and the full text of the activity are also available electronically via SAMHSA's World Wide Web Home Page: http://www.samhsa.gov.

When requesting an application kit, the applicant must specify the particular activity for which detailed information is desired. All information necessary to apply, including where to submit applications and application deadline instructions, are included in the application kit.

Purpose

The Substance Abuse and Mental Health Services Administration (SAMHSA), Center for Substance Abuse Treatment (CSAT) announces the availability of Fiscal Year 2001 funds for grants to enhance and expand substance abuse treatment and HIV/AIDS services in African American, Latino/Hispanic, and/or other racial or ethnic communities highly affected by the twin epidemics of substance abuse and HIV/AIDS. This program seeks to address gaps in substance abuse treatment capacity and outreach services by increasing the accessibility and availability of substance abuse treatment and HIV/AIDS related services (including treatment for STDs, TB, and hepatitis B and C). In addition to providing substance abuse treatment and HIV/AIDS related services, applicants must secure linkages with primary care and mental health providers as well as with various indigenous community-based organizations with experience in providing services to these communities.

Eligibility

Public and domestic private non-profit entities, such as units of State or local government, Indian tribes and tribal organizations, grassroots and/or community-based organizations and faith-based organizations that have the capacity to provide substance abuse treatment and HIV/AIDS services. Applicants for these grants should be community providers/community-based organizations that serve predominantly racial and ethnic minorities disproportionately impacted by the HIV/AIDS epidemic (i.e., African Americans, Hispanic/Latinos and other racial/ethnic minorities), based on the most recent estimated living AIDS cases, HIV infections and AIDS mortality among racial and ethnic minorities as reported by CDC. The applicant agency and all direct providers of substance abuse treatment and HIV/AIDS services with linkages to the applicant agency must be in compliance with all local, city, county and/or State licensing and/or accreditation/certification requirements. These entities also must have been providing the services for a minimum of two years prior to the date of the application. CSAT encourages applications from substance abuse treatment programs and HIV/AIDS service organizations that have a good record of reaching and serving hardcore, chronic drug users and their sex/needle-sharing partner(s) and facilitating their entry into substance abuse treatment.

Availability of Funds

Of the total $11.0 million available, $6.0 million will be made available to fund 15 to 20 grants in four population groups in Metropolitan Statistical Areas (MSAs) not previously funded under CSAT TCE/HIV or HIV Outreach grant announcements. An additional $5.0 million will be available to fund 10 to 15 grants in three high risk target populations in States and MSAs with high AIDS rates. The average grant award is expected to range from $100,000 to $500,000 per year in total costs (direct and indirect). Annual awards will be made subject to continued availability of funds to SAMHSA/CSAT and progress achieved by the grantee.

Period of Support: Grants will be awarded for a period of up to 5 years.

Criteria for Review and Funding

General Review Criteria: Competing applications requesting funding under this activity will be reviewed for technical merit in accordance with established PHS/SAMHSA peer review procedures. Review criteria that will be used by the peer review groups are specified in the application guidance material.

Award Criteria for Scored Applications: Applications will be considered for funding on the basis of their overall technical merit as determined through the peer review group and the appropriate National Advisory Council review process. Availability of funds will also be an award criteria. Additional award criteria specific to the programmatic activity may be included in the application guidance materials.

Catalog of Federal Domestic Assistance Number: 93.230.

Program Contact: For questions concerning program issues, contact: David C. Thompson, Div. of Practice and Systems Development, CSAT/SAMHSA, Rockwall II, 7th Floor, 5600 Fishers Lane, Rockville, MD 20857, (301) 443-6523, E-Mail: dthompso@samhsa.gov.

For questions regarding grants management issues, contact: Kathleen Sample, Division of Grants Management, OPS/SAMHSA, Rockwall II, 6th floor, 5600 Fishers Lane, Rockville, MD 20857, (301) 443-9667, E-Mail: ksample@samhsa.gov.

Public Health System Reporting Requirements: The Public Health System Impact Statement (PHSIS) is intended to keep State and local health officials apprised of proposed health services grant and cooperative agreement applications submitted by community-based nongovernmental organizations within their jurisdictions.

Community-based nongovernmental service providers who are not transmitting their applications through the State must submit a PHSIS to the head(s) of the appropriate State and local health agencies in the area(s) to be affected not later than the pertinent receipt date for applications. This PHSIS consists of the following information:

a. A copy of the face page of the application (Standard form 424).

b. A summary of the project (PHSIS), not to exceed one page, which provides:

(1) A description of the population to be served.

(2) A summary of the services to be provided.

(3) A description of the coordination planned with the appropriate State or local health agencies.

State and local governments and Indian Tribal Authority applicants are not subject to the Public Health System Reporting Requirements. Application guidance materials will specify if a particular FY 2001 activity is subject to the Public Health System Reporting Requirements.

PHS Non-use of Tobacco Policy Statement: The PHS strongly encourages all grant and contract recipients to provide a smoke-free workplace and promote the non-use of all tobacco products. In addition, Public Law 103-227, the Pro-Children Act of 1994, prohibits smoking in certain facilities (or in some cases, any portion of a facility) in which regular or routine education, library, day care, health care, or early childhood development services are provided to children. This is consistent with the PHS mission to protect and advance the physical and mental health of the American people.

Executive Order 12372: Applications submitted in response to the FY 2001 activity listed above are subject to the intergovernmental review requirements of Executive Order 12372, as implemented through DHHS regulations at 45 CFR Part 100. E.O. 12372 sets up a system for State and local government review of applications for Federal financial assistance. Applicants (other than Federally recognized Indian tribal governments) should contact the State's Single Point of Contact (SPOC) as early as possible to alert them to the prospective application(s) and to receive any necessary instructions on the State's review process. For proposed projects serving more than one State, the applicant is advised to contact the SPOC of each affected State. A current listing of SPOCs is included in the application guidance materials. The SPOC should send any State review process recommendations directly to: Division of Extramural Activities, Policy, and Review, Substance Abuse and Mental Health Services Administration, Parklawn Building, Room 17-89, 5600 Fishers Lane, Rockville, Maryland 20857.

The due date for State review process recommendations is no later than 60 days after the specified deadline date for the receipt of applications. SAMHSA does not guarantee to accommodate or explain SPOC comments that are received after the 60-day cut-off.

Dated: March 12, 2001.
Richard Kopanda,
Executive Officer, SAMHSA.

[FR Doc. 01-6504 Filed 3-12-01; 4:39 pm]

BILLING CODE 4162-20-M